NATIONAL AERONAUTICS AND SPACE ADMINISTRATION

[Notice: 15-104]

NASA Advisory Council; Meeting

AGENCY: National Aeronautics and Space Administration.

ACTION: Notice of Meeting.

SUMMARY: In accordance with the Federal Advisory Committee Act, Public Law 92-463, as amended, the National Aeronautics and Space Administration (NASA) announces a meeting of the NASA Advisory Council.

DATES: Tuesday, December 1, 2015, 1:00 p.m.-5:00 p.m.; Wednesday, December 2, 2015, 9:00 a.m.-5:00 p.m.; Thursday, December 3, 2015, 9:00 a.m.-11:00 a.m., Local Time.

ADDRESSES: NASA Johnson Space Center, Gilruth Conference Center, Lone Star Room, Room 216, 2101 NASA Parkway, Houston, TX 77508.

FOR FURTHER INFORMATION CONTACT: Ms. Marla King, NAC Administrative Officer, NASA Headquarters, Washington, DC 20546, (202) 358-1148.

SUPPLEMENTARY INFORMATION: This meeting will be open to the public to the meeting capacity of the room. This meeting is also available telephonically and by WebEx. You must use a touch tone phone to participate in this meeting. Any interested person may dial 1-888-469-1174 or toll number 1-517-308-9069, Passcode: “NAC Meeting” for all three days. Note: If dialing in, please “mute” your telephone. To join via WebEx, the link is https://nasa.webex.com/; the meeting number is 996 718 152 and the password is NACJSC2015* for all three days (password is case sensitive). The agenda for the meeting will include the following:

—Aeronautics Committee Report

—Human Exploration and Operations Committee Report

—Institutional Committee Report

—Science Committee Report

—Technology, Innovation and Engineering Committee Report

—Ad Hoc Task Force on STEM Education Report

It is imperative that the meeting be held on this date to accommodate the scheduling priorities of the key participants.

Patricia D. Rausch,
Advisory Committee Management Officer, National Aeronautics and Space Administration.

[FR Doc. 2015-29335 Filed 11-16-15; 8:45 am]

BILLING CODE 7510-13-P